DEPARTMENT OF HOMELAND SECURITY

U.S. Citizenship and Immigration Services

Continuation of Employment Authorization and Automatic Extension of Existing Employment Authorization Documents for Eligible Liberians During the Period of Extended Wind-Down of Deferred Enforced Departure

AGENCY: U.S. Citizenship and Immigration Services (USCIS), Department of Homeland Security.

ACTION: Notice.

SUMMARY: On March 30, 2020, President Trump issued a memorandum to the Acting Secretary of Homeland Security (Secretary) directing him to extend the Deferred Enforced Departure (DED) wind-down period for eligible Liberians, and to provide for continued work authorization through January 10, 2021, after which date the DED wind-down period will end. Furthermore, Liberians who apply for adjustment of status under the Liberian Refugee Immigration Fairness (LRIF) provision of the National Defense Authorization Act for Fiscal Year 2020 on or before December 20, 2020 may immediately apply for employment authorization consistent with that provision. During this extended DED wind down period and the LRIF application period, Liberians covered under DED may remain in the United States. Liberians covered under DED who also qualify to apply for permanent resident status under LRIF may experience a gap in employment authorization after the March 30, 2020 expiration of their current DED-based employment authorization documents (EADs). Therefore, the President directed that aliens who remain covered under DED be authorized employment for the duration of the extended DED wind-down period. This notice extends through January 10, 2021 employment authorization for Liberians (and persons without nationality who last habitually resided in Liberia) covered under DED who would like to apply for an EAD and also automatically extends DED-related EADs for those who already have an EAD with a printed expiration date of March 30, 2020.

DATES: The DED wind-down period and employment authorization for aliens covered under DED for Liberians is extended through January 10, 2021. Automatically extended DED-related EADs, as specified in this notice, expire after January 10, 2021.

FOR FURTHER INFORMATION CONTACT:

• You may contact Maureen Dunn, Chief, Humanitarian Affairs Division, Office of Policy and Strategy, U.S. Citizenship and Immigration Services, Department of Homeland Security, by mail at 20 Massachusetts Avenue NW, Washington, DC 20529-2060.

• For further information on DED, including additional information on eligibility, please visit the USCIS DED web page at www.uscis.gov/humanitarian/temporary-protected-status/deferred-enforced-departure. You can find specific information about DED for Liberians by selecting “DED Granted Country: Liberia” from the menu on the left of the DED web page. For further information on Liberian Refugee Immigration Fairness (LRIF), including additional information on eligibility, please visit the USCIS LRIF web page www.uscis.gov/green-card/other-ways-get-green-card/liberian-refugee-immigration-fairness.

• If you have additional questions about DED or LRIF, please visit uscis.gov/tools. Our online virtual assistant, Emma, can answer many of your questions and point you to additional information on our website. If you are unable to find your answers there, you may also call the USCIS Contact Center at 800-375-5283 (TTY 800-767-1833).

• Applicants seeking information about the status of their individual cases may check Case Status Online, available on the USCIS website at www.uscis.gov, or call the USCIS Contact Center at 800-375-5283 (TTY 800-767-1833).

• Further information will also be available at local USCIS offices upon publication of this notice.

SUPPLEMENTARY INFORMATION:

Table of Abbreviations

CFR—Code of Federal Regulations

DED—Deferred Enforced Departure

DHS—U.S. Department of Homeland Security

EAD—Employment Authorization Document

FNC—Final Nonconfirmation

Form I-485—Application to Register Permanent Residence or Adjust Status

Form I-765—Application for Employment Authorization

Form I-797—Notice of Action (Approval Notice)

Form I-9—Employment Eligibility Verification

Form I-912—Request for Fee Waiver

FR—Federal Register

Government—U.S. Government

IER—U.S. Department of Justice Civil Rights Division, Immigrant and Employee Rights Section

LRIF—Liberian Refugee Immigration Fairness

SAVE—USCIS Systematic Alien Verification for Entitlements Program

Secretary—Secretary of Homeland Security

TNC—Tentative Nonconfirmation

TPS—Temporary Protected Status

TTY—Text Telephone

USCIS—U.S. Citizenship and Immigration Services

U.S.C.—United States Code

Purpose of This Action

Pursuant to the President's constitutional authority to conduct the foreign relations of the United States, President Trump has concluded that foreign policy considerations warrant a further extension of the wind-down period of DED for Liberians through January 10, 2021.¹ Through this notice, as directed by the President, DHS is extending the DED wind-down period and employment authorization for covered Liberians and automatically extending the validity of current DED-related EADs through January 10, 2021. The President authorized the extension of the DED wind-down period to allow for continued employment authorization for aliens covered under DED. Liberians who apply for adjustment of status under the LRIF provision of the National Defense Authorization Act for Fiscal Year 2020 on or before December 20, 2020 may immediately apply for employment authorization consistent with that provision. See National Defense Authorization Act for Fiscal Year 2020, Public Law 116-92 (Dec. 20, 2019), Section 7611, available at www.congress.gov/116/bills/s1790/BILLS-116s1790enr.pdf. But because LRIF did not specifically automatically extend existing DED-related employment authorization, Liberians covered under DED who apply for permanent resident status under LRIF may experience a gap in employment authorization upon the March 30, 2020 expiration of their current DED-based EADs. Therefore, the President directed that aliens who remain covered under DED be authorized employment for the duration of the current DED wind-down period, through January 10, 2021. See Presidential Memorandum on Extending the Wind-Down Period for Deferred Enforced Departure for Liberians, March 30, 2020, available at www.whitehouse.gov/presidential-actions/memorandum-extending-wind-period-deferred-enforced-departure-liberians/. This notice also explains how Liberians covered under DED and their employers may determine which EADs are automatically extended and how this impacts the Employment Eligibility Verification (Form I-9), E-Verify, and USCIS Systematic Alien Verification for Entitlements Program (SAVE) processes. Note that DED only applies to aliens who have continuously resided in the United States since October 1, 2002, and who held Temporary Protected Status (TPS) on September 30, 2007, under the TPS designation for Liberia, which terminated on that date. Id.; see also 71 FR 55000 (Sept. 20, 2006) (termination of TPS Liberia notice).

¹ See Presidential Memorandum for the Secretary of State and the Secretary of Homeland Security on Extending Deferred Enforced Departure for Liberians March 30, 2020, available at www.whitehouse.gov/presidential-actions/memorandum-extending-wind-period-deferred-enforced-departure-liberians/. Note: Aliens covered by the presidential DED memorandum include certain Liberians as well as persons without nationality who last habitually resided in Liberia who held Temporary Protected Status on September 30, 2007 and who meet all other criteria in the memorandum for DED. Hereinafter, “DED for Liberians” also includes such persons without nationality.

Employment Authorization and Eligibility

How will I know if I am eligible for employment authorization under the Presidential Memorandum that extended the DED wind-down period for eligible Liberians?

The procedures for employment authorization in this notice apply only to aliens who are Liberian nationals (and persons without nationality who last habitually resided in Liberia) who:

• Have continuously resided in the United States since October 1, 2002;

• Held TPS on September 30, 2007, the termination date of a former TPS designation for Liberia; and

• Currently remain covered under DED for Liberians.

This DED extension does not include any alien:

• Who would be ineligible for TPS for the reasons set forth in section 244(c)(2)(B) of the Immigration and Nationality Act, 8 U.S.C. 1254a(c)(2)(B);

• Who sought or seek LPR status under the LRIF provision but whose applications have been or are denied by the Secretary;

• Whose removal the Secretary determines is in the interest of the United States, subject to the LRIF provision and other applicable law;

• Whose presence or activities in the United States the Secretary of State has reasonable grounds to believe would have potentially serious adverse foreign policy consequences for the United States;

• Who has voluntarily returned to Liberia or his or her country of last habitual residence outside the United States beyond the timeframe specified in subsection (c) of the LRIF provision;

• Who was deported, excluded, or removed prior to March 30, 2020; or

• Who is subject to extradition.

Does this Federal Register notice automatically extend my current EAD through January 10, 2021?

If you are a national of Liberia (or a person having no nationality who last habitually resided in Liberia), you are currently covered under DED for Liberians, and you are within the class of aliens approved for DED by the President, this notice automatically extends your DED-based EAD with a marked expiration date of March 30, 2020, bearing the notation A-11 on the face of the card under Category, though January 10, 2021. This means that your EAD is valid through January 10, 2021, even though its marked expiration date has passed.

When hired, what documentation may I show to my employer as evidence of identity and employment authorization when completing Form I-9?

You can find the Lists of Acceptable Documents on the third page of Form I-9 as well as the Acceptable Documents web page at www.uscis.gov/i-9-central/acceptable-documents. Employers must complete Form I-9 to verify the identity and employment authorization of all new employees. Within 3 days of hire, employees must present acceptable documents to their employers as evidence of identity and employment authorization to satisfy Form I-9 requirements.

You may present any document from List A (which provides evidence of both identity and employment authorization) or one document from List B (which provides evidence of your identity) together with one document from List C (which provides evidence of employment authorization), or you may present an acceptable receipt as described in the Form I-9 Instructions. Employers may not reject a document based on a future expiration date. You can find additional information about Form I-9 on the I-9 Central web page at www.uscis.gov/I-9Central.

An EAD is an acceptable document under List A. See the section “How do my employer and I complete Form I-9 using my automatically extended EAD for a new job?” of this Federal Register notice for further information. If your EAD has an expiration date of March 30, 2020, and states A-11 under Category, it has been extended automatically consistent with the President's directive and the issuance of this Federal Registernotice, and you may choose to present this EAD to your employer as proof of identity and employment eligibility for Form I-9 through January 10, 2021. To minimize confusion over this extension at the time of hire, you may also show your employer a copy of this Federal Register notice confirming the extension of your employment authorization through January 10, 2021. See the section “How do my employer and I complete Form I-9 using my automatically extended EAD for a new job?” for further information. As an alternative to presenting your automatically extended EAD, you may choose to present any other acceptable document from List A, a combination of one selection from List B and one selection from List C, or an acceptable receipt.

What documentation may I present to my employer for Form I-9 if I am already employed but my current DED-related EAD is set to expire?

Even though your EAD has been automatically extended, your employer is required by law to ask you about your continued employment authorization, and you will need to present your employer with evidence that you are still authorized to work. Once presented, your employer should update the EAD expiration date in Section 2 of Form I-9. See the section “What corrections should my current employer make to Form I-9 if my employment authorization has been automatically extended?” of this Federal Register notice for further information. You may show this Federal Register notice to your employer to explain what to do for Form I-9 and to show that your EAD has been automatically extended through January 10, 2021. Your employer may need to re-inspect your automatically extended EAD to check the Card Expires date and Category code if your employer did not keep a copy of your EAD when you initially presented it.

The last day of the automatic extension for your EAD is January 10, 2021. Before you start work on January 11, 2021, your employer is required by law to reverify your employment authorization in Section 3 of Form I-9. At that time, you must present any document from List A or any document from List C on Form I-9, Lists of Acceptable Documents, or an acceptable List A or List C receipt described in the Form I-9 Instructions, to reverify your employment authorization.

If your original Form I-9 was a previous version, your employer must complete Section 3 of the current version of Form I-9, and attach it to your previously completed Form I-9. Your employer can check the I-9 Central web page at www.uscis.gov/I-9Central for the most current version of Form I-9.

Your employer may not specify which List A or List C document you must present and cannot reject an acceptable receipt.

Can I obtain a new EAD?

Yes, if you remain eligible for DED, you can obtain a new EAD; however, you do not need to apply for a new EAD to benefit from this automatic extension. If you are currently covered under DED and want to obtain a new DED-based EAD valid through January 10, 2021, then you must file Form I-765, Application for Employment Authorization, and pay the associated fee. If you are currently covered under DED and are eligible for permanent resident status under LRIF, you may file Form I-765 concurrently with or after you file Form I-485, Application to Register Permanent Residence or Adjust Status. You may be eligible for a fee waiver, if you meet the eligibility criteria. See Form I-912, Request for Fee Waiver.

Can my employer require that I provide any other documentation to prove my status, such as proof of my Liberian citizenship?

No. When completing Form I-9, including reverifying employment authorization, employers must accept any documentation that appears on the Form I-9 Lists of Acceptable Documents that reasonably appears to be genuine and that relates to you, or an acceptable List A, List B, or List C receipt. Employers do not need to reverify List B identity documents. Employers may not request documentation that does not appear on the Lists of Acceptable Documents. Therefore, employers may not request proof of Liberian citizenship when completing Form I-9 for new hires or reverifying the employment authorization of current employees. If presented with an EAD that has been automatically extended, employers should accept such document as a valid List A document, as long as the EAD reasonably appears to be genuine and relates to the employee. Refer to the “Note to Employees” section of this Federal Register notice for important information about your rights if your employer rejects lawful documentation, requires additional documentation, or otherwise discriminates against you based on your citizenship or immigration status, or your national origin.

What happens after January 10, 2021, for purposes of employment authorization?

After January 10, 2021, employers may no longer accept EADs issued under the previous DED extension of Liberia that this Federal Register notice automatically extended.

What can I do to adjust status based on LRIF and continue working in the United States after January 10, 2021?

Aliens who are eligible for permanent resident status under LRIF and who wish to prevent a gap in employment authorization should submit their completed Form I-485 and associated Form I-765 as early as possible. Liberian nationals applying to adjust status under LRIF must properly file Form I-485, and USCIS must receive Form I-485, by December 20, 2020.

How do my employer and I complete Form I-9 using an automatically extended EAD for a new job?

When using an automatically extended EAD to complete Form I-9 for a new job on or before January 10, 2021, for Section 1, you should:

a. Check “An alien authorized to work until” and enter January 10, 2021 as the expiration date; and

b. Enter your USCIS Number or A-Number where indicated (your EAD or other document from DHS will have your USCIS number or A-Number printed on it; the USCIS Number is the same as your A-Number without the A prefix).

For Section 2, your employer should:

a. Determine if the EAD is auto-extended by ensuring it is in Category A-11 and has a Card Expires date of March 30, 2020;

b. Write in the document title;

c. Enter the issuing authority;

d. Enter either the employee's A-Number or USCIS number from the EAD in the Document Number field on Form I-9; and

e. Write January 10, 2021 as the expiration date.

Before the start of work on January 11, 2021, employers must reverify the employee's employment authorization in Section 3 of Form I-9.

What corrections should my current employer make to Form I-9 if my EAD has been automatically extended?

If you presented a DED-related EAD that was valid when you first started your job and your EAD has now been automatically extended, your employer may need to reinspect your current EAD if your employer does not have a copy of the EAD on file. Your employer should determine if your EAD is automatically extended by ensuring that it contains Category A-11 and has a Card Expires date of March 30, 2020. If your employer determines that your EAD has been automatically extended, your employer should update Section 2 of your previously completed Form I-9 as follows:

a. Write EAD Ext. and January 10, 2021 as the expiration date in the Additional Information field; and

b. Initial and date the correction.

Note: This is not considered a reverification. Employers do not need to complete Section 3 until either this notice's automatic extension of EADs has ended or the employee presents a new document to show continued employment authorization, whichever is sooner. By January 11, 2021, when the employee's automatically extended EAD has expired, employers are required by law to reverify the employee's employment authorization in Section 3. If your original Form I-9 was a previous version, your employer must complete Section 3 of the current version of Form I-9 and attach it to your previously completed Form I-9. Your employer can check the I-9 Central web page at www.uscis.gov/I-9Central for the most current version of Form I-9.

If I am an employer enrolled in E-Verify, how do I verify a new employee whose EAD has been automatically extended?

Employers may create a case in E-Verify for a new employee by providing the employee's A-Number or USCIS number from Form I-9 in the Document Number field in E-Verify.

If I am an employer enrolled in E-Verify, what do I do when I receive a “Work Authorization Documents Expiration” alert for an automatically extended EAD?

E-Verify has automated the verification process for DED-related EADs that are automatically extended. If you have employees who provided a DED-related EAD when they first started working for you, you will receive a “Work Authorization Documents Expiring” case alert when the auto-extension period for this EAD is about the expire. Before this employee starts work on January 11, 2021, you must reverify his or her employment authorization in Section 3 of Form I-9. Employers should not use E-Verify for reverification.

Note to All Employers

Employers are reminded that the laws requiring proper employment eligibility verification and prohibiting unfair immigration-related employment practices remain in full force. This Federal Register notice does not supersede or in any way limit applicable employment verification rules and policy guidance, including those rules setting forth reverification requirements. For general questions about the employment eligibility verification process, employers may call USCIS at 888-464-4218 (TTY 877-875-6028) or email USCIS at I-9Central@dhs.gov. USCIS accepts calls and emails in English and many other languages. For questions about avoiding discrimination during the employment eligibility verification process (Form I-9 and E-Verify), employers may call the U.S. Department of Justice's Civil Rights Division, Immigrant and Employee Rights Section (IER) Employer Hotline at 800-255-8155 (TTY 800-237-2515). IER offers language interpretation in numerous languages. Employers may also email IER at IER@usdoj.gov.

Note to Employees

For general questions about the employment eligibility verification process, employees may call USCIS at 888-897-7781 (TTY 877-875-6028) or email USCIS at I-9Central@dhs.gov. USCIS accepts calls in English, Spanish and many other languages. Employees or applicants may also call the IER Worker Hotline at 800-255-7688 (TTY 800-237-2515) for information regarding employment discrimination based upon citizenship, immigration status, or national origin, including discrimination related to Form I-9 and E-Verify. The IER Worker Hotline provides language interpretation in numerous languages.

To comply with the law, employers must accept any document or combination of documents from the Lists of Acceptable Documents if the documentation reasonably appears to be genuine and to relate to the employee, or an acceptable List A, List B, or List C receipt as described in the Form I-9 Instructions. Employers may not require extra or additional documentation beyond what is required for Form I-9 completion. Further, employers participating in E-Verify who receive an E-Verify case result of “Tentative Nonconfirmation” (TNC) must promptly inform employees of the TNC and give such employees an opportunity to contest the TNC. A TNC case result means that the information entered into E-Verify from Form I-9 differs from records available to DHS.

Employers may not terminate, suspend, delay training, withhold pay, lower pay, or take any adverse action against an employee because of the TNC while the case is still pending with E-Verify. A “Final Nonconfirmation” (FNC) case result is received when E-Verify cannot confirm an employee's employment eligibility. An employer may terminate employment based on a case result of FNC. Work-authorized employees who receive an FNC may call USCIS for assistance at 888-897-7781 (TTY 877-875-6028). For more information about E-Verify-related discrimination or to report an employer for discrimination in the E-Verify process based on citizenship, immigration status, or national origin, contact IER's Worker Hotline at 800-255-7688 (TTY 800-237-2515). Additional information about proper nondiscriminatory Form I-9 and E-Verify procedures is available on the IER website at www.justice.gov/ier and the USCIS and E-verify websites at www.uscis.gov/i-9-central and www.e-verify.gov.

Note Regarding Federal, State, and Local Government Agencies (Such as Departments of Motor Vehicles)

For Federal purposes, individuals covered under DED for Liberians presenting an EAD referenced in this Federal Register notice do not need to show any other document, such as an I-797, Notice of Action, to prove that they qualify for this extension. However, while Federal Government agencies must follow the guidelines laid out by the Federal Government, state and local government agencies establish their own rules and guidelines when granting certain benefits. Each state may have different laws, requirements, and determinations about what documents you need to provide to prove eligibility for certain benefits. Whether you are applying for a Federal, state, or local government benefit, you may need to provide the government agency with documents that show you are covered under DED and/or show you are authorized to work based on DED. Examples of such documents are:

• Your current EAD;

• Your automatically extended EAD with a copy of this Federal Register notice, providing an automatic extension of your EAD;

• A copy of the notice of approval of your past Application for Temporary Protected Status Form I-797, Notice of Action, if you received one from USCIS, coupled with a copy of the March 30, 2020, Presidential Memorandum extending DED for Liberians; and/or

• A print-out from the USCIS DED website that provides information on the automatic extension. Such a print-out could be coupled with your EAD or with the Presidential Memorandum and your USCIS notice of approval showing that you had TPS as of September 30, 2007.

Check with the government agency regarding which document(s) the agency will accept. Some benefit-granting agencies use the SAVE program to confirm the current immigration status of applicants for public benefits. While SAVE can verify when an individual has DED, each agency's procedures govern whether they will accept an automatically extended DED-related EAD. You should:

a. Present the agency with a copy of this Federal Register notice showing the extension of DED and of your DED-related EAD with your alien number;

b. Explain that SAVE will be able to verify the continuation of your DED using this information; and

c. Ask the agency to initiate a SAVE query with your information and follow through with additional verification steps, if necessary, to get a final SAVE response confirming your DED.

You can also ask the agency to look for SAVE notices or contact SAVE if they have any questions about your immigration status or automatic extension of your DED-related EAD. In most cases, SAVE provides an automated electronic response to benefit-granting agencies within seconds, but, occasionally, verification can be delayed. You can check the status of your SAVE verification by using CaseCheck at save.uscis.gov/casecheck/, then by clicking the “Check Your Case” button. CaseCheck is a free service that lets you follow the progress of your SAVE verification using your date of birth and one immigration identifier number. If an agency has denied your application based solely or in part on a SAVE response, the agency must offer you the opportunity to appeal the decision in accordance with the agency's procedures. If the agency has received and acted upon or will act upon a SAVE verification and you do not believe the response is correct, you may make an appointment for an in-person interview at a local USCIS office. Detailed information on how to make corrections or update your immigration record, make an appointment, or submit a written request to correct records under the Freedom of Information Act can be found on the SAVE website at www.uscis.gov/save.

Joseph Edlow,
Deputy Director for Policy, U.S. Citizenship and Immigration Services.

[FR Doc. 2020-07355 Filed 4-3-20; 4:15 pm]

BILLING CODE 9111-97-P